DEPARTMENT OF DEFENSE

Department of the Air Force

Notice of Intent To Prepare an Environmental Impact Statement for the Initial F-22 Operational Beddown

The United States Air Force (Air Force) is issuing this notice to advise the public of its intent to prepare an Environmental Impact Statement (EIS) to assess the potential environmental impacts of a proposal to beddown the initial F-22 Operational Wing. The F-22 air superiority fighter is being developed to replace the F-15 aircraft beginning in 2004. A total of 72 operational aircraft, grouped into three squadrons, are proposed for the beddown.

The Air Force will conduct scoping meetings at five alternative locations for the initial beddown, including Langley Air Force Base (AFB), VA; Elmendorf AFB, AK; Eglin AFB, FL; Tyndall AFB, FL; and Mountain Home AFB, ID. Langley AFB, VA is the preferred alternative, however each alternative, along with any other alternatives developed as part of the scoping process, will be screened to determine if it warrants detailed analysis in the EIS. Those alternatives meeting the criteria for the initial beddown will be analyzed along with the No Action Alternative.

The Air Force will conduct the first phase of scoping meetings in each of the potential locations with a second round of meetings in those locations identified for detailed analysis. Dates, times and locations for the meetings will be announced through press releases and other media sources accessible to the public and agencies. Comments will be accepted throughout the environmental impact analysis process, however to ensure sufficient time to consider public and agency comments inputs in the screening process and preparation of the Draft EIS, comments should be submitted to the address below by June 30, 2000.

HQ ACC/CEVP, Attn: Ms. Brenda Cook, 129 Andrews Street, Suite 102, Langley AFB, VA 23665-2769.

Janet A. Long,
Air Force Federal Register Liaison Officer.

[FR Doc. 00-5180 Filed 3-2-00; 8:45 am]

BILLING CODE 5001-05-P